DEPARTMENT OF ENERGY

Federal Energy Regulatory Commission

Combined Notice of Filings #1

Take notice that the Commission received the following electric corporate filings:

Docket Numbers: EC18-152-000.

Applicants: Puget Sound Energy, Inc., PGGM Vermogensbeheer B.V., Alberta Investment Management Corporation, OMERS Administration Corporation, British Columbia Investment Management Corporation.

Description: Joint Application for Authorization Under Section 203 of the Federal Power Act, et al. of Puget Sound Energy, Inc., et al.

Filed Date: 9/7/18.

Accession Number: 20180907-5166.

Comments Due: 5 p.m. ET 9/28/18.

Docket Numbers: EC18-153-000.

Applicants: Mid-Atlantic Interstate Transmission, LLC.

Description: Application for Authorization Under Section 203 of the Federal Power Act, et al. of Mid-Atlantic Interstate Transmission, LLC.

Filed Date: 9/7/18.

Accession Number: 20180907-5175.

Comments Due: 5 p.m. ET 9/28/18.

Take notice that the Commission received the following electric rate filings:

Docket Numbers: ER18-1244-002.

Applicants: Emera Maine.

Description: Tariff Amendment: 2nd Deficiency Response (ER18-1213-000 and ER18-1244-001) to be effective 6/1/2018.

Filed Date: 9/10/18.

Accession Number: 20180910-5017.

Comments Due: 5 p.m. ET 10/1/18.

Docket Numbers: ER18-2398-000.

Applicants: California Independent System Operator Corporation.

Description: Compliance filing: 2018-09-07 Order No. 844 Compliance to be effective 1/1/2019.

Filed Date: 9/7/18.

Accession Number: 20180907-5101.

Comments Due: 5 p.m. ET 9/28/18.

Docket Numbers: ER18-2399-000.

Applicants: GenOn Holdco 10, LLC.

Description: § 205(d) Rate Filing: normal name change to be effective 9/8/2018.

Filed Date: 9/7/18.

Accession Number: 20180907-5130.

Comments Due: 5 p.m. ET 9/28/18.

Docket Numbers: ER18-2400-000.

Applicants: New York Independent System Operator, Inc.

Description: Compliance filing: Compliance Order 844 Uplift Cost Reporting to be effective 12/31/9998.

Filed Date: 9/7/18.

Accession Number: 20180907-5139.

Comments Due: 5 p.m. ET 9/28/18.

Docket Numbers: ER18-2401-000.

Applicants: PJM Interconnection, L.L.C.

Description: Compliance filing: Compliance Filing Pursuant to Order No 844 re Uplift to be effective 1/1/2019.

Filed Date: 9/7/18.

Accession Number: 20180907-5145.

Comments Due: 5 p.m. ET 9/28/18.

Docket Numbers: ER18-2402-000.

Applicants: PJM Interconnection, L.L.C.

Description: § 205(d) Rate Filing: Revisions to the Market Monitoring Services Agreement to be effective 1/1/2020.

Filed Date: 9/7/18.

Accession Number: 20180907-5158.

Comments Due: 5 p.m. ET 9/28/18.

Docket Numbers: ER18-2403-000.

Applicants: PJM Interconnection, L.L.C.

Description: § 205(d) Rate Filing: Revisions to the Market Monitor Service Level Agreement to be effective 11/6/2018.

Filed Date: 9/7/18.

Accession Number: 20180907-5159.

Comments Due: 5 p.m. ET 9/28/18.

Docket Numbers: ER18-2404-000.

Applicants: Southwest Power Pool, Inc.

Description: Petition for Tariff Waiver of Southwest Power Pool, Inc.

Filed Date: 9/10/18.

Accession Number: 20180910-5057.

Comments Due: 5 p.m. ET 10/1/18.

Docket Numbers: ER18-2405-000.

Applicants: Midcontinent Independent System Operator, Inc., Wolverine Power Supply Cooperative, Inc.

Description: § 205(d) Rate Filing: 2018-09-10_SA 3165 Wolverine-Consumers Energy IFA (Stoney Corners) to be effective 9/11/2018.

Filed Date: 9/10/18.

Accession Number: 20180910-5093.

Comments Due: 5 p.m. ET 10/1/18.

Take notice that the Commission received the following electric securities filings:

Docket Numbers: ES18-60-000.

Applicants: New England Power Company.

Description: Application Under Section 204 of the Federal Power Act for Authorization to Issue Securities of New England Power Company.

Filed Date: 9/10/18.

Accession Number: 20180910-5110.

Comments Due: 5 p.m. ET 10/1/18.

Docket Numbers: ES18-61-000.

Applicants: Consolidated Edison Company of New York, Inc.

Description: Application of Consolidated Edison Company of New York, Inc. under ES18-61. for an order pursuant to Section 204 of the Federal Power Act authorizing the issue and sale of short-term debt.

Filed Date: 9/10/18.

Accession Number: 20180910-5111.

Comments Due: 5 p.m. ET 10/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2018.
Nathaniel J. Davis, Sr.,
Deputy Secretary.

[FR Doc. 2018-19999 Filed 9-13-18; 8:45 am]

BILLING CODE 6717-01-P